DEPARTMENT OF ENERGY

Federal Energy Regulatory Commission

[Docket No. CP03-50-000]

Tennessee Gas Pipeline Company; Notice of Application

Dated: February 24, 2003.

On February 11, 2003, Tennessee Gas Pipeline Company (Tennessee), 9 East Greenway Plaza, Houston, Texas 77046, filed in Docket No. CP03-50-000, an application pursuant to section 7(b) of the Natural Gas Act (NGA), as amended, and part 157 of the regulations of the Federal Energy Regulatory Commission (Commission), for authorization to abandon in place the Yalobusha pipeline segment 800-2 located in Grenada County, Mississippi, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Tennessee states that in l963 it constructed a secondary river crossing of the Yalobusha River in Grenada County, Mississippi, pursuant to authorization granted in Docket No. CP63-48-000 and this segment known as the Yalobusha pipeline segment 800-2 is thirty inches in diameter and is approximately 1,000 feet in length. Tennessee further states that: (1) The Yalobusha pipeline segment 800-2 was constructed to minimize service interruption while the existing crossing, Line 800-1, was lowered; (2) to safely lower Line 800-1, Tennessee first constructed the new crossing and then temporarily removed Line 800-1 from service; and (3) subsequent to lowering Line 800-1, Tennessee redirected the flow of gas from the Yalobusha pipeline segment 800-2 back to Line 800-1.

Tennessee indicates that it does not currently rely on the Yalobusha pipeline segment 800-2 to provide service to any customers. In addition, Tennessee states that it plans to perform maintenance on the Line 800-1 segment in 2003 to make it piggable. Because of its infrequent use, maintenance issues, and redundant nature, Tennessee states that it proposes to abandon the Yalobusha pipeline segment 800-2 when Tennessee is in Grenada County, Mississippi, performing maintenance on Line 800-1 to make it piggable. Additionally, Tennessee states that the abandonment of the line will not significantly affect its capacity. According to Tennessee, the results of the abandonment of Yalobusha pipeline segment 800-2 will be a 0.060% reduction in capacity and that the cost associated with the proposed abandonment is $262,000.

Any questions concerning this application may be directed to Jacques Hodges, Attorney, Tennessee Gas Pipeline Company, 9 East Greenway Plaza, Houston, Texas 77046, at (832) 676-5509 or fax (832) 676-2251 or Veronica Hill, Certificates & Regulatory Compliance, at (832) 676-3295 or fax (832) 676-2231.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued. Comment Date: March 6, 2003.

Magalie R. Salas,
Secretary.

[FR Doc. 03-4843 Filed 2-28-03; 8:45 am]

BILLING CODE 6717-01-P